DEPARTMENT OF AGRICULTURE

Food Safety and Inspection Service

[Docket No. 00-006N]

Exemption for Retail Stores; Adjustment for Dollar Limitations

AGENCY: Food Safety and Inspection Service, USDA.

ACTION: Notice.

SUMMARY: The Food Safety and Inspection Service (FSIS) has increased the limitation on annual sales of meat and meat food products by retail stores whose operations are exempt from Federal inspection. The dollar limitation for poultry products has been kept unchanged at $39,000 for calendar year 2000. The dollar limitation for meat and meat food products has been increased from $41,000 to $42,500 for calendar year 2000. This increase conforms to the price change for meat and meat food products indicated by the Consumer Price Index.

EFFECTIVE DATE: March 2, 2000.

FOR FURTHER INFORMATION CONTACT: Daniel L. Engeljohn, Ph.D., Director, Regulations Development and Analysis Division, Office of Policy, Program Development, and Evaluation, FSIS, U.S. Department of Agriculture, Room 112, Cotton Annex, 300 12th Street, SW., Washington, DC 20250, (202) 720-5627, fax number (202) 690-0486.

SUPPLEMENTARY INFORMATION

Background

Under the regulations in 9 CFR 303.1(d) and 381.10(d), FSIS exempts certain operations of types traditionally and usually conducted at retail stores from routine Federal inspection of meat and poultry products. Whether a retail store operation qualifies for an exemption depends, in part, on the percentage and volume of trade in meat and poultry products that a retail store conducts with non-household consumers (hotels, restaurants, or similar institutions). The regulations state in dollars the annual maximum amount of meat and poultry products that a retail store may sell to non-household consumers if that store's operations are to remain exempt from inspection.

FSIS adjusts the dollar limitation during the first quarter of each calendar year if the Consumer Price Index, published by the Bureau of Labor Statistics, indicates at least a $500 increase or decrease in the price of the same volume of product during the previous year. FSIS publishes a notice of the adjusted dollar limitation in the Federal Register.

The Consumer Price Index for 1999 indicates an average annual price increase in meat and meat food products of 3.6 percent and an average annual price decrease in poultry products of 2.8 percent. When rounded off to the nearest $100, the price increase for meat and meat food products amounts to $1,500 and the price decrease for poultry products amounts to $200. Prices of meat and meat food products, therefore, have changed in excess of $500, and those of poultry have decreased by less than $500. In accordance with §§ 303.1(d)(2)(iii)(b) and 381.10(d)(2)(iii)(b) of the regulations, FSIS has increased the dollar limitation of permitted sales of meat and meat food products from $41,000 to $42,500 and has kept the dollar limitation of permitted sales for poultry products at $39,000.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to over 300 organizations and individuals. In addition, the update is available on line through the FSIS web page located at http://www.fsis.usda.gov. The update is used to provide information regarding FSIS policies, procedures, regulations, Federal Register notices, FSIS public meetings, recalls, and any other types of information that could affect or would be of interest to our constituents/stakeholders. The constituent fax list consists of industry, trade, and farm groups, consumer interest groups, allied health professionals, scientific professionals, and other individuals that have requested to be included. Through these various channels, FSIS is able to provide information to a much broader, more diverse audience. For more information and to be added to the constituent fax list, fax your request to the Congressional and Public Affairs Office, at (202) 720-5704.

Done at Washington, DC, on: February 24, 2000.
Thomas J. Billy,
Administrator.

[FR Doc. 00-5055 Filed 3-1-00; 8:45 am]

BILLING CODE 3410-DM-P